DEPARTMENT OF ENERGY

Federal Energy Regulatory Commission

Combined Notice of Filings

Take notice that the Commission has received the following Natural Gas Pipeline Rate and Refund Report filings:

Filings Instituting Proceedings

Docket Numbers: RP12-170-000.

Applicants: Gas Transmission Northwest LLC.

Description: Adjustments for Leap Year 2012 to be effective 1/1/2012.

Filed Date: 11/28/11.

Accession Number: 20111128-5060.

Comments Due: 5 p.m. ET 12/12/11.

Docket Numbers: RP12-171-000.

Applicants: Natural Gas Pipeline Company of America, LLC.

Description: Secure Energy Negotiated Rate Filing to be effective 11/26/2011.

Filed Date: 11/28/11.

Accession Number: 20111128-5129.

Comments Due: 5 p.m. ET 12/12/11.

Docket Numbers: RP12-172-000.

Applicants: Midcontinent Express Pipeline LLC.

Description: Sawgrass Negotiated Rate Filing to be effective 12/1/2011.

Filed Date: 11/28/11.

Accession Number: 20111128-5139.

Comments Due: 5 p.m. ET 12/12/11.

Docket Numbers: RP12-173-000.

Applicants: PostRock KPC Pipeline, LLC.

Description: Request for Waiver of Tariff Provision of PostRock KPC Pipeline, LLC.

Filed Date: 11/28/11.

Accession Number: 20111128-5157.

Comments Due: 5 p.m. ET 12/12/11.

Docket Numbers: RP12-174-000.

Applicants: Transcontinental Gas Pipe Line Company, LLC.

Description: S-2 Tracker Filing Effective 2011-12-01 to be effective 12/1/2011.

Filed Date: 11/28/11.

Accession Number: 20111128-5183.

Comments Due: 5 p.m. ET 12/12/11.

Docket Numbers: RP12-175-000.

Applicants: Natural Gas Pipeline Company of America LLC.

Description: EDF Negotiated Rate Filing to be effective 12/1/2011.

Filed Date: 11/28/11.

Accession Number: 20111128-5210.

Comments Due: 5 p.m. ET 12/12/11.

Docket Numbers: RP12-176-000.

Applicants: Alliance Pipeline L.P.

Description: 2012 Rates to be effective 1/1/2012.

Filed Date: 11/29/11.

Accession Number: 20111129-5003.

Comments Due: 5 p.m. ET 12/12/11.

Docket Numbers: RP12-177-000.

Applicants: CenterPoint Energy Gas Transmission Company.

Description: CEGT's Annual Sligo Lease LUFG Percentage Tracker Filing.

Filed Date: 11/28/11.

Accession Number: 20111128-5238.

Comments Due: 5 p.m. ET 12/12/11.

Docket Numbers: RP12-178-000.

Applicants: Gulf Crossing Pipeline Company LLC.

Description: Antero 2 to Tenaska 225 Capacity Release Negotiated Rate Agreement Filing to be effective 12/1/2011.

Filed Date: 11/29/11.

Accession Number: 20111129-5023.

Comments Due: 5 p.m. ET 12/12/11.

Docket Numbers: RP12-179-000.

Applicants: Gulf Crossing Pipeline Company LLC.

Description: Antero 3 to Tenaska 226 Capacity Release Negotiated Rate Agreement Filing to be effective 12/1/2011.

Filed Date: 11/29/11.

Accession Number: 20111129-5024.

Comments Due: 5 p.m. ET 12/12/11.

Docket Numbers: RP12-180-000.

Applicants: Natural Gas Pipeline Company of America.

Description: OXY Amended Negotiated Rate Filing to be effective 12/1/2011.

Filed Date: 11/29/11.

Accession Number: 20111129-5073.

Comments Due: 5 p.m. ET 12/12/11.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-2594-001.

Applicants: National Fuel Gas Supply Corporation.

Description: Rate Schedule PTR Compliance Filing to be effective 10/27/2011.

Filed Date: 11/28/11.

Accession Number: 20111128-5140.

Comments Due: 5 p.m. ET 12/12/11.

Docket Numbers: RP11-1670-006.

Applicants: Eastern Shore Natural Gas Company.

Description: eTariff Viewer Correction—RP11-1670 Interim Settlement Rates to be effective 11/1/2011.

Filed Date: 11/29/11.

Accession Number: 20111129-5067.

Comments Due: 5 p.m. ET 12/12/11.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: November 29, 2011.
Nathaniel J. Davis, Sr.,
Deputy Secretary.

[FR Doc. 2011-31384 Filed 12-6-11; 8:45 am]

BILLING CODE 6717-01-P